DEPARTMENT OF STATE

[Public Notice: 10578]

Privacy Act of 1974; System of Records

AGENCY: Department of State.

ACTION: Notice of a Modified System of Records.

SUMMARY: Family Liaison Office Records are used to manage the Family Liaison Office's programs and to provide services to its clients in each of its major areas of interest: Family Member Employment, Naturalization, Education and Youth, Unaccompanied Tours, Community Liaison Office Program and Support Services.

DATES: In accordance with 5 U.S.C. 552a(e)(4) and (11), this system of records notice is effective upon publication, with the exception of the routine uses that are subject to a 30-day period during which interested persons may submit comments to the Department. Please submit any comments by November 5, 2018.

ADDRESSES: Questions can be submitted by mail or email. If mail, please write to: U. S. Department of State; Office of Global Information Systems, Privacy Staff; A/GIS/PRV; SA-2, Suite 8100; Washington, DC 20522-0208. If email, please address the email to the Privacy Division Chief, Christina Jones-Mims, at Privacy@state.gov. Please write “Family Liaison Office Records, State-50” on the envelope or the subject line of your email.

FOR FURTHER INFORMATION CONTACT: Christina Jones-Mims, Privacy Division Chief; Office of Global Information Services, A/GIS; Department of State, SA-2; 515 22nd Street NW, Washington, DC 20522-8100, or at Privacy@state.gov.

SUPPLEMENTARY INFORMATION: The Department of State proposes that the system name be changed to “Family Liaison Office Records”. In accordance with the Privacy Act of 1974, the Department of State proposes to consolidate two record systems: Family Liaison Office Centralized Data Bank of Family Member Skills and Direct Communication Network Records, State-50 (previously published at 43 FR 45958) and Skills Catalogue Records, State-49 (previously published at 43 FR 45957). These two systems are being merged because the records are very similar.

SYSTEM NAME AND NUMBER

Family Liaison Office Records, State-50.

SECURITY CLASSIFICATION:

Unclassified.

SYSTEM LOCATION:

Department of State, 2201 C Street NW, Washington, DC 20520.

SYSTEM MANAGER(S):

Director, Family Liaison Office, and Chief, Personnel Management, Operating Systems Division, Department of State, 2201 C Street NW, Washington, DC 20520.

AUTHORITY FOR MAINTENANCE OF THE SYSTEM:

22 U.S.C 4026(b).

PURPOSE(S) OF THE SYSTEM:

The information in the system is used to manage the Family Liaison Office's programs and to provide services to its clients in each of its major areas of interest: Family Member Employment, Naturalization, Education and Youth, Unaccompanied Tours, Community Liaison Office program and Support Services.

CATEGORIES OF INDIVIDUALS COVERED BY THE SYSTEM:

Current and past participants of Family Liaison Office (FLO) programs and individuals who have requested to receive information from FLO including: (1) U.S. direct-hire employees from all U.S. foreign affairs agencies; (2) Eligible family members and members of households from all U.S. foreign affairs agencies; (3) Community Liaison Office Coordinators at post; (4) friends and family of employees assigned to an unaccompanied post; (5) children of employees assigned to an unaccompanied post through the Children's Medal Program. The term “individual” is defined by 5 U.S.C. 552a(a)(2).

CATEGORIES OF RECORDS IN THE SYSTEM:

Name, email address, social security number, employee identification number, affiliate agency, current or future post, dates of arrival and departure from post, date of birth, career field, social media identifications, gender, age, phone number, employment status, current and/or future post, college transcripts and foreign education credentials, copy of passport, copy of naturalization certificate (if applicable), relationship to U.S. direct-hire employee, job title and position number, security clearance level, GS/FS level, employment and training history, work experience, country of birth, citizenship GS/FS rating code, work preference code, current mailing address, location code of assignment, and other biographic data including educational background, language skills, transfer eligibility date.

RECORD SOURCE CATEGORIES:

These records contain information that is primarily obtained from the individual who is the subject of the records or their U.S. direct-hire employee sponsor.

ROUTINE USES OF RECORDS MAINTAINED IN THE SYSTEM, INCLUDING CATEGORIES OF USERS AND PURPOSES OF SUCH USES:

The information contained in these records may be disclosed:

(a) To other government agencies, multinational corporations, international organizations, business firms, foundations, foreign governments and other entities and persons with employment opportunities for family members or who may be interested in hiring family members to perform a task commensurate with their work experience or to utilize their services in performing voluntary work.

(b) To appropriate agencies, entities, and persons when (1) the Department of State suspects or has confirmed that there has been a breach of the system of records; (2) the Department of State has determined that as a result of the suspected or confirmed breach there is a risk of harm to individuals, the Department of State (including its information systems, programs, and operations), the Federal Government, or national security; and (3) the disclosure made to such agencies, entities, and persons is reasonably necessary to assist in connection with the Department of State efforts to respond to the suspected or confirmed breach or to prevent, minimize, or remedy such harm.

(c) To another Federal agency or Federal entity, when the Department of State determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

The Department of State periodically publishes in the Federal Register its standard routine uses which apply to all of its Privacy Act systems of records. These notices appear in the form of a Prefatory Statement (published in Volume 73, Number 136, Public Notice 6290, on July 15, 2008). All these standard routine uses apply to Family Liaison Office Records, State-50.

POLICIES AND PRACTICES FOR STORAGE OF RECORDS:

Records are stored both in hard copy and on electronic media. A description of standard Department of State policies concerning storage of electronic records is found here https://fam.state.gov/FAM/05FAM/05FAM0440.html. All hard copies of records containing personal information are maintained in secured file cabinets in restricted areas, access to which is limited to authorized personnel only.

POLICIES AND PRACTICES FOR RETRIEVAL OF RECORDS:

By individual name of the family member, name of the U.S. direct-hire employee sponsor, his/her agency and current post.

POLICIES AND PRACTICES FOR RETENTION AND DISPOSAL OF RECORDS:

Records are retired or destroyed in accordance with published Department of State Disposition Schedules as approved by the National Archives and Records Administration (NARA) and outlined here https://foia.state.gov/Learn/RecordsDisposition.aspx. More specific information may be obtained by writing to the Director, Office of Information Programs and Services,A/GIS/IPS; SA-2, Department of State; 515 22nd Street NW, Washington, DC 20522-8100.

ADMINISTRATIVE, TECHNICAL, AND PHYSICAL SAFEGUARDS:

All users are given cyber security awareness training which covers the procedures for handling Sensitive But Unclassified (SBU) information, including personally identifiable information (PII). Annual refresher training is mandatory. In addition, all Foreign Service and Civil Service employees and those Locally Engaged Staff who handle PII are required to take the Foreign Service Institute distance learning course, PA 459, instructing employees on privacy and security requirements, including the rules of behavior for handling PII and the potential consequences if it is handled improperly.

Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

Before being granted access to Family Liaison Office Records, a user must first be granted access to the Department of State computer system. Remote access to the Department of State network from non-Department owned systems is authorized only to unclassified systems and only through a Department approved access program. Remote access to the network is configured with the authentication requirements contained in the Office of Management and Budget Circular Memorandum A-130. All Department of State employees and contractors with authorized access have undergone a thorough background security investigation.

RECORD ACCESS PROCEDURES:

Individuals who wish to gain access to or amend records pertaining to them should write to the Director; Office of Information Programs and Services,A/GIS/IPS; SA-2 Department of State; 515 22nd Street NW, Washington, DC 20522-8100.

CONTESTING RECORD PROCEDURES:

See above.

NOTIFICATION PROCEDURES:

Individuals who have reason to believe that the Family Liaison Office might have records pertaining to him or her should write to the following address: Director; Office of Information Programs and Services, A/GIS/IPS; SA-2 Department of State; 515 22nd Street NW, Washington, DC 20522-8100.

The individual must specify that he or she request the records of the Family Liaison Office to be checked. At a minimum, the individual must include the following: Name, date and place of birth, current mailing address and zip code, agency, current post, signature, and any other information helpful in identifying the record.

EXEMPTIONS PROMULGATED FOR THE SYSTEM:

None.

HISTORY:

The Department of State proposes to consolidate two record systems: Family Liaison Office Centralized Data Bank of Family Member Skills and Direct Communication Network Records, State-50 (previously published at 43 FR 45958) and Skills Catalogue Records, State-49 (previously published at 43 FR 45957).

Eric F. Stein,
Acting Senior Agency Official for Privacy, Acting Deputy Assistant Secretary, Office of Global Information Services, Bureau of Administration, Department of State.

[FR Doc. 2018-21689 Filed 10-4-18; 8:45 am]

BILLING CODE 4710-24-P